NATIONAL AERONAUTICS AND SPACE ADMINISTRATION

[Notice (08-037)]

Government-Owned Inventions, Available for Licensing

AGENCY: National Aeronautics and Space Administration.

ACTION: Notice of availability of inventions for licensing.

SUMMARY: The inventions listed below assigned to the National Aeronautics and Space Administration have been filed in the United States Patent and Trademark Office, and are available for licensing.

DATES: April 29, 2008.

FOR FURTHER INFORMATION CONTACT: Linda B. Blackburn, Patent Counsel, Langley Research Center, Mail Code 141, Hampton, VA 23681-2199; telephone (757) 864-3221; fax (757) 864-9190.

NASA Case No. LAR-17480-1: Method Of Calibrating A Fluid-Level Measurement System;

NASA Case No. LAR-17402-1: Wholly Aromatic Liquid Crystalline Polyetherimide (LC-PEI) Resins;

NASA Case No. LAR-17455-1: A Carbon Nanotube Film Electrode And An Electroactive Device Fabricated With The Carbon Nanotube Film Electrode And A Method for Making Same;

NASA Case No. LAR-17151-2: Thin Metal Film System To Include Flexible Substrate And Method Of Making Same;

NASA Case No. LAR-17447-1: Multi-Functional Annular Fairing For Coupling Launch Abort Motor To Space Vehicle;

NASA Case No. LAR-17330-1: Composite Panel With Reinforced Recesses;

NASA Case No. LAR-17327-1: Apparatus, Method And Program Storage Device For Determining High-Energy Neutron/Ion Transport To A Target Of Interest;

NASA Case No. LAR-17478-1: Aircraft Wing For Over-the-Wing Mounting Of Engine Nacelle;

NASA Case No. LAR-17365-1: Boundary-Layer-Ingesting Inlet Flow Control System;

NASA Case No. LAR-17488-1: Wireless Sensing System For Non-Invasive Monitoring Of Attributes Of Contents In A Container;

NASA Case No. LAR 17321-1: Composite Insulated Conductor;

NASA Case No. LAR 17231-1: Variable Focal Point Optical Assembly Using Zone Plate And Electro-Optic Material;

NASA Case No. LAR17325-1: Method Of Performing Computational Aeroelastic Analyses.

Dated: April 23, 2008.
Keith T. Sefton,
Deputy General Counsel, Administration and Management.

[FR Doc. E8-9368 Filed 4-28-08; 8:45 am]

BILLING CODE 7510-13-P